DEPARTMENT OF HEALTH AND HUMAN SERVICES

National Institutes of Health

National Institute of Environmental Health Sciences; Amended Notice of Meeting

Notice is hereby given of a change in the meeting of the National Institute of Environmental Health Sciences Special Emphasis Panel, March 31, 2020, 08:30 a.m. to April 01, 2020, 06:00 p.m., NIEHS, Keystone, 530 Davis Drive, Durham, NC 27709 which was published in the Federal Register on February 10, 2020, 85 FRN 5460.

The March 31, 2020-April 1, 2020 NIEHS Special Emphasis Panel Meeting is being amended due to a change in the meeting format. This two-day meeting is being changed from an in-person meeting to a teleconference meeting. The meeting is closed to the public.

Dated: March 18, 2020.
Tyeshia M. Roberson,
Program Analyst, Office of Federal Advisory Committee Policy.

[FR Doc. 2020-06132 Filed 3-23-20; 8:45 am]

BILLING CODE 4140-01-P